Title 3—

The President

Proclamation 7862 of January 14, 2005

Martin Luther King, Jr., Federal Holiday, 2005

By the President of the United States of America

A Proclamation

Dr. Martin Luther King, Jr., was a visionary American and a dedicated leader who believed deeply in liberty and dignity for every person. His faith and courage continue to inspire America and the world. We honor his life and his work.

Growing up in Atlanta, Georgia, Dr. King witnessed firsthand the injustice of a segregated society. He realized that change was necessary to ensure the full promise of our Constitution for all Americans, and his charismatic leadership awakened the conscience of America.

Dr. King's dream inspired our Nation with what he called “a certain kind of fire that no water could put out.” Since Dr. King's involvement in the civil rights movement in the 1950s and 1960s, Americans have witnessed the power of the law to prevent injustice and encourage the finest qualities of our Nation. Last year, we celebrated the 40th anniversary of the Civil Rights Act of 1964. Once this landmark legislation was signed into law, Americans could no longer be denied a room in a hotel or a table at a restaurant because of their race.

Our Nation has accomplished much over the past 40 years. Our journey toward justice and equality has not always been an easy one, and it is not over. However long the journey, our destination is set: liberty and justice for all. Dr. Martin Luther King, Jr., believed in the good that exists in all men and women. We will remember the work of Dr. King as we continue striving to meet the founding ideals of our great Nation.

NOW, THEREFORE, I, GEORGE W. BUSH, President of the United States of America, by virtue of the authority vested in me by the Constitution and laws of the United States, do hereby proclaim Monday, January 17, 2005, as the Martin Luther King, Jr., Federal Holiday. I encourage all Americans to observe this day with appropriate activities and programs that honor the memory and legacy of Dr. King.

IN WITNESS WHEREOF, I have hereunto set my hand this fourteenth day of January, in the year of our Lord two thousand five, and of the Independence of the United States of America the two hundred and twenty-ninth.

B

[FR Doc. 05-1254

Filed 1-19-05; 9:29 am]

Billing code 3195-01-P